DEPARTMENT OF AGRICULTURE

Rural Utilities Service

7 CFR Part 1714

[RUS-21-ELECTRIC-0003]

RIN 0572-AC53

Streamlining Electric Program Procedures; Correction

AGENCY: Rural Utilities Service, U.S. Department of Agriculture (USDA).

ACTION: Correcting amendments.

SUMMARY: On July 9, 2021, the Rural Utilities Service (RUS or Agency), a Rural Development agency of the United States Department of Agriculture (USDA), published a final rule that revised several regulations to streamline its procedures for Electric Program borrowers, including its loan application requirements, approval of construction work plans, contract bidding procedures, contact approval procedures, system operation and maintenance reviews, long-range engineering plans and system design procedures. Following implementation of the final rule, RUS found that a correction due to a deletion is necessary. This technical correction makes an amendment to add information back to the regulation that was inadvertently deleted.

DATES: Effective July 1, 2022.

FOR FURTHER INFORMATION CONTACT: Robert Coates, Chief, Policy and Outreach Branch, Office of Customer Service and Technical Assistance, Rural Utilities Service, U.S. Department of Agriculture, STOP 1569, 1400 Independence Ave. SW, Washington, DC 20250-0787, telephone: (202) 720-1900. Email: RUSElectric@usda.gov.

SUPPLEMENTARY INFORMATION: The Agency is issuing a technical correction to its regulations in 7 CFR part 1714, which were amended by a final rule that published in the Federal Register on July 9, 2021 (86 FR 36193).

List of Subjects in 7 CFR Part 1714

Electric power, Loan programs-energy, Rural areas.

Accordingly, 7 CFR part 1714 is corrected by making the following correcting amendments:

PART 1714—PRE-LOAN POLICIES AND PROCEDURES FOR INSURED ELECTRIC LOANS

1. The authority citation for part 1714 continues to read as follows:

Authority: 7 U.S.C. 901 et seq.; 1921 et seq.; and 6941 et seq.

2. In § 1714.56, add paragraphs (b)(1) through (3) to read as follows:

§ 1714.56 Fund advance period.

* * * * *

(b) * * *

(1) To apply for an extension, the borrower must make a request to RUS prior to the last date for advance as noted in the borrower's loan documents and provide, the following:

(i) A certified copy of a board resolution requesting an extension of the Government's obligation to advance loan funds;

(ii) Evidence that the unadvanced loan funds continue to be needed for approved loan purposes; and

(iii) Notice of the estimated date for completion of construction.

(2) If the Administrator approves a request for an extension, RUS will notify the borrower in writing of the extension and the terms and conditions thereof. An extension will be effective only if it is requested in writing prior to the last date for advance as provided in the borrower's loan documents.

(3) Any request received after the last date for advance shall be rejected.

* * * * *

Christopher A. McLean,
Acting Administrator, Rural Utilities Service.

[FR Doc. 2022-14127 Filed 6-30-22; 8:45 am]

BILLING CODE 3410-15-P